DEPARTMENT OF THE INTERIOR

National Park Service

[NPS-WASO-NAGPRA-NPS0027466; PPWOCRADN0-PCU00RP14.R50000]

Notice of Inventory Completion: The State Center Community College District—Fresno City College, Fresno, CA; Correction

AGENCY: National Park Service, Interior.

ACTION: Notice; correction.

SUMMARY: The State Center Community College District—Fresno City College has corrected an inventory of human remains and associated funerary objects, published in a Notice of Inventory Completion in the Federal Register on August 23, 2018. This notice corrects the number of associated funerary objects. Lineal descendants or representatives of any Indian Tribe or Native Hawaiian organization not identified in this notice that wish to request transfer of control of these human remains and associated funerary objects should submit a written request to the State Center Community College District—Fresno City College. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State Center Community College District—Fresno City College at the address in this notice by May 24, 2019.

ADDRESSES: Mary Beth Miller, Interim Dean of Social Sciences, in care of Jill Minar, Ph.D., Fresno City College of The State Center Community College District, 1101 E. University Avenue, Fresno, CA 93741, telephone (559) 442-8210, email jill.minar@fresnocitycollege.edu.

SUPPLEMENTARY INFORMATION: Notice is here given in accordance with the Native American Graves Protection and Repatriation Act (NAGPRA), 25 U.S.C. 3003, of the correction of an inventory of human remains and associated funerary objects under the control of the State Center Community College District—Fresno City College, Fresno, CA. The human remains and associated funerary objects were removed from site CA-MAD-1785, Madera County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (83 FR 42681-42682, August 23, 2018). A re-inventory identified fewer associated funerary objects than previously reported. Transfer of control of the items in this correction notice has not occurred.

Correction

In the Federal Register (83 FR 42682, August 23, 2018), column 1, paragraph 2, sentence 4 is corrected by substituting the following sentence:

The 10 associated funerary objects are one steatite sherd, five steatite beads, three shell beads, and one shell fragment.

In the Federal Register (83 FR 42682, August 23, 2018), column 1, paragraph 5, sentence 2 is corrected by substituting the following sentence:

Pursuant to 25 U.S.C. 3001(3)(A), the 15 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Mary Beth Miller, Interim Dean of Social Sciences, in care of Jill Minar, Ph.D., Fresno City College of The State Center Community College District, 1101 E. University Avenue, Fresno, CA 93741, telephone (559) 442-8210, email jill.minar@fresnocitycollege.edu, by May 24, 2019. After that date, if no additional requestors have come forward, transfer of control of the human remains and associated funerary objects to the Northfork Rancheria of Mono Indians of California and the Picayune Rancheria of Chukchansi Indians of California may proceed.

The State Center Community College District—Fresno City College is responsible for notifying The Consulted and Notified Tribes that this notice has been published.

Dated: March 11, 2019.
Melanie O'Brien,
Manager, National NAGPRA Program.

[FR Doc. 2019-08229 Filed 4-23-19; 8:45 am]

BILLING CODE 4312-52-P